DEPARTMENT OF COMMERCE

National Oceanic and Atmospheric Administration

RIN 0648-XX21

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Herring Oversight Committee, on July 27-28, 2010, to consider actions affecting New England fisheries in the exclusive economic zone (EEZ). Recommendations from this group will be brought to the full Council for formal consideration and action, if appropriate.

DATES: This meeting will be held on Tuesday, July 27 at 9:30 a.m. and Wednesday, July 28, 2010 at 9 a.m.

ADDRESSES: The meeting will be held at the Holiday Inn by the Bay, 88 Spring Street, Portland, ME 04101; telephone: (207) 775-2311; fax: (207) 761-8224.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, July 27, 2010

The Herring Committee will continue development of catch monitoring alternatives for inclusion in Amendment 5 to the Atlantic Herring Fishery Management Plan (FMP). Alternatives may include management measures to: improve quota monitoring and reporting; standardize/certify volumetric measures of catch; address vessel-to-vessel transfers of Atlantic herring; address requirements for catch monitoring and control plans (CMCPs); address maximized retention; maximize sampling and address net slippage; address at-sea monitoring; address portside sampling; require electronic monitoring, and address other elements of catch monitoring in the Atlantic herring fishery. The Committee will also discuss the potential applicability of flow scales, hopper scales and truck scales in the herring fishery and develop Committee recommendations.

Wednesday, July 28, 2010

The agenda will continue from the previous day with additional discussion related to developing catch monitoring alternatives for inclusion in Amendment 5 to the Atlantic Herring FMP; develop management measures and alternatives to address river herring bycatch for consideration in Amendment 5 to the Herring FMP; discuss elements of Amendment 5 catch monitoring alternatives that relate to documenting and monitoring river herring bycatch; and address other elements of Amendment 5 as time permits.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: June 29, 2010.
Tracey L. Thompson,
Acting Director, Office of Sustainable Fisheries, National Marine Fisheries Service.

[FR Doc. 2010-16157 Filed 7-1-10; 8:45 am]

BILLING CODE 3510-22-S